CONSUMER PRODUCT SAFETY COMMISSION

[Docket No. CPSC-2009-0044]

Proposed Extension of Approval of Information Collection; Comment Request—Safety Standard for Cigarette Lighters

AGENCY: Consumer Product Safety Commission.

ACTION: Notice.

SUMMARY: As required by the Paperwork Reduction Act of 1995 (44 U.S.C. Chapter 35), the Consumer Product Safety Commission (“CPSC” or “Commission”) requests comments on a proposed request for an extension of approval of a collection of information from manufacturers and importers of disposable and novelty cigarette lighters. This collection of information consists of testing and recordkeeping requirements in regulations implementing the Safety Standard for Cigarette Lighters (16 CFR part 1210), approved previously under OMB Control No. 3041-0116. The Commission will consider all comments received in response to this notice before requesting an extension of approval of this collection of information from the Office of Management and Budget (“OMB”).

DATES: The Office of the Secretary must receive comments not later than April 22, 2016.

ADDRESSES: You may submit comments, identified by Docket No. CPSC-2009-0044, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2009-0044, into the “Search” box, and follow the prompts.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC seeks to renew the following currently approved collection of information:

Title: Safety Standard for Cigarette Lighters.

OMB Number: 3041-0116.

Type of Review: Renewal of collection.

Frequency of Response: On occasion.

Affected Public: Manufacturers and importers of cigarette lighters.

Estimated Number of Respondents: In 2015, 42 firms submitted information to the CPSC on 307 lighter models. There were 4 new models and 303 lighters that were comparable to previously tested models (“comparison lighters”).

Estimated Time per Response: Recordkeeping is composed of two separate components: recordkeeping for new models and recordkeeping for comparison lighters. The time burden for recordkeeping for new models is estimated at 20 hours per model. The total time for recordkeeping of new models is estimated to be 80 hours (20 hours × 4 models). For each new model, product testing for each firm would take approximately 90 hours per model, for a total of 360 hours (90 hours × 4 models).

Firms may also submit comparison lighters to demonstrate compliance with the standard. In 2015, 303 comparison lighters were reported to the CPSC. While firms bear no testing costs for comparison lighters, the burden hours for recordkeeping has been estimated at 3 hours per model. Thus, an estimated 909 hours (303 models × 3 hours) is estimated for recordkeeping for comparison lighters.

Reporting requirements for submitting forms to CPSC are estimated at one hour per model, for a total annual reporting burden on 307 hours (307 models × 1 hour).

Total Estimated Annual Burden: The total number of responses is approximately 307 per year (4 new models + 303 comparison lighters). The number of hours estimated for testing and recordkeeping is 1,349 hours per year, including new-product tests (360 hours if done in house), new product recordkeeping (4 new models × 20 hours = 80 hours), and recordkeeping for comparison lighters (303 comparison lighters × 3 hours = 909 hours). In addition, the CPSC estimates that approximately one hour per product will be required for manufacturers to submit forms to CPSC, or 307 total hours for reporting. Accordingly the total burden hours for recordkeeping and reporting are approximately 1656 hours (1349 + 307).

General Description of Collection: In 1993, the Commission issued the Safety Standard for Cigarette Lighters (16 CFR part 1210) under the Consumer Product Safety Act (“CPSA”) (15 U.S.C. 2051 et seq.) to eliminate or reduce risks of death and burn injury from fires accidentally started by children playing with cigarette lighters. The standard requires certain test protocols, as well as recordkeeping and reporting requirements. 16 CFR part 1210, subpart B. In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program.

Request for Comments

The Commission solicits written comments from all interested persons about the proposed collection of information. The Commission specifically solicits information relevant to the following topics:

— Whether the collection of information described above is necessary for the proper performance of the Commission's functions, including whether the information would have practical utility;

— Whether the estimated burden of the proposed collection of information is accurate;

— Whether the quality, utility, and clarity of the information to be collected could be enhanced; and

— Whether the burden imposed by the collection of information could be minimized by use of automated, electronic or other technological collection techniques, or other forms of information technology.

Dated: February 17, 2016.
Todd A. Stevenson,
Secretary, Consumer Product Safety Commission.

[FR Doc. 2016-03581 Filed 2-19-16; 8:45 am]

BILLING CODE 6355-01-P